DEPARTMENT OF THE INTERIOR

Fish and Wildlife Service

50 CFR Part 17

[Docket Nos. FWS-R1-ES-2012-0017; FWS-R1-ES-2013-0012; 4500030113]

RIN 1018-AX72; 1018-AZ54

Endangered and Threatened Wildlife and Plants; Threatened Status and Designation of Critical Habitat for Eriogonum codium (Umtanum Desert Buckwheat) and Physaria douglasii subsp. tuplashensis (White Bluffs Bladderpod); Delay of Effective Dates

AGENCY: Fish and Wildlife Service, Interior.

ACTION: Final rules; delay of effective dates.

SUMMARY: This document delays for an additional 4 weeks the effective date of two rules to conserve Eriogonum codium (Umtanum desert buckwheat) and Physaria douglasii subsp. tuplashensis (White Bluffs bladderpod). Both rules had an effective date of November 22, 2013. We are taking this action to allow time for us to address additional public comments received on the rules.

DATES: The effective dates of both the “Threatened Status for Eriogonum codium (Umtanum Desert Buckwheat) and Physaria douglasii subsp. tuplashensis (White Bluffs Bladderpod)” (78 FR 23984; April 23, 2013) and “Designation of Critical Habitat for Eriogonum codium (Umtanum Desert Buckwheat) and Physaria douglasii subsp. tuplashensis (White Bluffs Bladderpod)” (78 FR 24008; April 23, 2013) are delayed until December 20, 2013.

ADDRESSES: You may obtain copies of these rules and related materials at http://www.regulations.gov in Dockets FWS-R1-ES-2012-0017 (for the listing rule) and FWS-R1-ES-2013-0012 (for the critical habitat rule).

FOR FURTHER INFORMATION CONTACT: Ken Berg, Manager, U.S. Fish and Wildlife Service, Washington Fish and Wildlife Office, 510 Desmond Drive, Suite 102, Lacey, Washington 98503-1263, by telephone (360) 753-9440, or by facsimile (360) 753-9405. Persons who use a telecommunications device for the deaf (TDD) may call the Federal Information Relay Service (FIRS) at 800-877-8339.

SUPPLEMENTARY INFORMATION: Under the authority of the Endangered Species Act (Act) (16 U.S.C. 1531 et seq.), the U.S. Fish and Wildlife Service issued the following two rules on April 23, 2013: “Endangered and Threatened Wildlife and Plants; Threatened Status for Eriogonum codium (Umtanum Desert Buckwheat) and Physaria douglasii subsp. tuplashensis (White Bluffs Bladderpod)” (78 FR 23984) and “Endangered and Threatened Wildlife and Plants; Designation of Critical Habitat for Eriogonum codium (Umtanum Desert Buckwheat) and Physaria douglasii subsp. tuplashensis (White Bluffs Bladderpod)” (78 FR 24008). The final rule pertaining to threatened status implements the Federal protections provided by the Act for these species. The critical habitat final rule conserves both species' habitat under the Act. Both rules had an effective date of May 23, 2013.

On May 23, 2013, we delayed for 6 months the effective date of the rules to November 22, 2013 (78 FR 30772). The delay in effective date was necessary to allow us time to follow proper procedure in accordance with 16 U.S.C. section 1533(b)(5). In fulfilling that responsibility, we also decided to accept and consider additional public comments on the rules. Accordingly, on May 23, 2013, we also announced the reopening of the public comment periods (78 FR 30839) on the May 15, 2012, proposed listing and designation of critical habitat for the Umtanum desert buckwheat and White Bluffs bladderpod (77 FR 28704). On July 11, 2013, we held two public hearings on the proposed rules (78 FR 38895; June 28, 2013). The second comment period closed July 22, 2013.

We are further delaying the effective dates of these rules an additional 4 weeks to allow us adequate time to fully consider the additional public comments we received on these rulemaking actions. We believe this additional time is necessary for us to carry out our responsibility under the Act to take actions to conserve these species based on the best scientific and commercial data available. To the extent that 5 U.S.C. section 553 applies to this situation, this action is exempt from notice and comment because it constitutes a rule of procedure under 5 U.S.C. section 553(b)(A).

Dated: 18 November 2013.
Rachel Jacobsen,
Principal Deputy Assistant Secretary for Fish and Wildlife and Parks.

[FR Doc. 2013-28146 Filed 11-21-13; 8:45 am]

BILLING CODE 4310-55-P